FEDERAL MARITIME COMMISSION

[Petition No. P4-15]

Petition of Crowley Caribbean Services, LLC and Crowley Latin America Services, LLC, for an Exemption From Commission Regulations; Notice of Filing and Request for Comments

This is to provide notice of filing and to invite comments on or before October 23, 2015, regarding the Petition described below.

Crowley Caribbean Services, LLC and Crowley Latin America Services, LLC (Petitioners), have petitioned the Commission pursuant to 46 CFR 502.76 of the Commission's Rules of Practice and Procedure, for an exemption from the Commission's rules requiring individual service contract amendments, 46 CFR 530.10. Specifically, Petitioners explain that on or about October 31, 2015, Crowley will acquire the assets of ocean common carrier Seafreight Line, Ltd. (“Seafreight”), including Seafreight's service contracts and, as such, request that the Commission permit the submission of a “universal notice to the Commission and to all affected service contract parties in lieu of requiring individual filings reflecting amendment by mutual agreement.” In addition, because existing tariffs must be renumbered and republished due to this acquisition, instead of amending each individual contract, Petitioners also seek a waiver to permit insertion of notices in existing Seafreight tariffs and in new “Crowley d/b/a Seafreight” tariffs. Petitioners separately commit to provide each service contract shipper counter-party with electronic notice of this corporate change.

The Petition in its entirety is posted on the Commission's Web site at http://www.fmc.gov/p4-15. Comments filed in response to this Petition also will be posted on the Commission's Web site at this location.

In order for the Commission to make a thorough evaluation of the Petition, interested persons are requested to submit views or arguments in reply to the Petition no later than October 23, 2015. Commenters must send an original and 5 copies to the Secretary, Federal Maritime Commission, 800 North Capitol Street NW., Washington, DC 20573-0001, and be served on Petitioners' counsel, Wayne R. Rohde, Cozen O'Connor, 1200 19th Street NW., Washington, DC 20036. A text-searchable PDF copy of the reply must also be sent as an email attachment to Secretary@fmc.gov, and include in the subject line: “P4-15, Crowley Caribbean Services Petition.” Replies containing confidential information should not be submitted by email.

Karen V. Gregory,
Secretary.

[FR Doc. 2015-26170 Filed 10-14-15; 8:45 am]

BILLING CODE 6730-01-P